DEPARTMENT OF ENERGY

Office of Energy Efficiency and Renewable Energy

Expanding Bioeconomy

AGENCY: Office of Energy Efficiency and Renewable Energy, Department of Energy (DOE).

ACTION: Notice of Open Meeting.

SUMMARY: DOE's Bioenergy Technologies Program on behalf of the interagency Biomass Research and Development (R&D) Board today announces an open meeting and call for information to solicit information and viewpoints from interested parties on the challenges and opportunities of expanding the bioeconomy. This notice is being published less than 15 days prior to the meeting date due to logistical issues that had to be resolved prior to the meeting date.

DATES: July 31, 2014 7:30 a.m.—5:30 p.m.

ADDRESSES: Walter E. Washington Convention Center, 801 Mt Vernon Pl., NW., Washington, DC 20001.

FOR FURTHER INFORMATION CONTACT: Questions may be directed to Alicia Lindauer, Designated Federal Official for the Workshop, Office of Energy Efficiency and Renewable Energy, U.S. Department of Energy, 1000 Independence Ave SW., Washington, DC 20585, email alicia.lindauer@ee.doe.gov, 720-356-1356.

SUPPLEMENTARY INFORMATION:

Purpose of the meeting: To receive comments and input on a national vision for a bioeconomy based on the use of biomass for biofuels, bioproducts, and biopower. The Biomass R&D Board intends to hear from interested parties on the challenges and opportunities currently facing the bioenergy sector.

Tentative Agenda: The workshop will include presentations from Biomass R&D Board Agency representatives on ongoing activities in the bioenergy field. The meeting will feature three sessions for public comment on challenges and opportunities in Feedstocks and Logistics, Conversion Technologies, and Distribution and End Use.

Public Participation: Members of the public are encouraged to attend, however, there is limited seating available and only the first 120 registrants will be allowed to attend the workshop. If you would like to register to attend the workshop, or to attend the workshop and provide oral comments during one of the comment sessions, please contact Ashley Rose at Ashley.rose@ee.doe.gov. The deadline for registration is July 30, 2014. If you are unable to attend the event and would like to submit written comments for consideration, please email them to Ashley.rose@ee.doe.gov.

Instructions: Any information, input, and data as part of written or oral comments may be made available to the public. Do not include any personal information or information claimed to be Confidential Business Information (CBI) or other information whose disclosure is restricted by statute in either written or verbal form.

The maximum time allowed for oral comments at the meeting is five (5) minutes per individual. The maximum number of speakers from the same organization will be limited to one (1). Those speaking are asked to provide written comments in advance of the meeting if possible. No slides or handouts will be allowed. The agency representatives may ask clarifying questions during the oral presentations but will not respond to the presentations during the meeting. Written statements and supporting information submitted before the deadline will be considered with the same weight as oral comments presented at the workshop.

Please designate which session you are providing written and oral comments to:

• Session One: Opportunities and Challenges Facing the Industry— Feedstock Production and Logistics

• Session Two: Opportunities and Challenges Facing the Industry—Conversion Technologies

• Session Three: Opportunities and Challenges Facing the Industry— Distribution and End Use

Issued in Washington, DC, on July 22, 2014.
Jonathan Male,
Director, Bioenergy Technologies Office.

[FR Doc. 2014-17713 Filed 7-25-14; 8:45 am]

BILLING CODE 6450-01-P